DEPARTMENT OF COMMERCE

National Oceanic and Atmospheric Administration

RIN 0648-XN99

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of exempted fishing permit applications; request for comments.

SUMMARY: NMFS announces the receipt of exempted fishing permit (EFP) applications, and is considering issuance of EFPs for vessels participating in the EFP fisheries. The EFPs are necessary to allow activities that are otherwise prohibited by Federal regulations. The EFPs will be effective no earlier than April 27, 2009, and would expire no later than December 31, 2009, but could be terminated earlier under terms and conditions of the EFPs and other applicable laws.

DATES: Comments must be received no later than 5 p.m., local time on April 27, 2009.

ADDRESSES: You may submit comments, identified by 0648-XN99 by any one of the following methods:

• Fax: 206-526-6736, Attn: Gretchen Arentzen.

• Mail: D. Robert Lohn, Administrator, Northwest Region, NMFS, 7600 Sand Point Way NE, Seattle, WA 98115-0070, Attn: Gretchen Arentzen.

FOR FURTHER INFORMATION CONTACT: To view copies of the 2009 EFP applications, visit the Pacific Council website at www.pcouncil.org and browse the September 2008 Briefing Book; or contact Gretchen Arentzen (Northwest Region, NMFS), phone: 206-526-6147, fax: 206-526-6736.

SUPPLEMENTARY INFORMATION: This action is authorized by the Magnuson-Stevens Fishery Conservation and Management Act provisions at 50 CFR 600.745, which states that EFPs may be used to authorize fishing activities that would otherwise be prohibited. At the September 2008 Pacific Fishery Management Council (Council) meeting in Boise, Idaho, the Council considered applications for four EFPs from: (1) The Nature Conservancy and their collaborators; (2) the California Recreational Fishing Alliance and Golden Gate Fisherman's Association; (3) the Oregon Recreational Fishing Alliance; and (4) Steven Fosmark. An opportunity for public testimony was provided during the Council meeting. For more details on these EFP applications and to view copies of the applications, see the Pacific Council's website at www.pcouncil.org and browse the September 2008 Briefing Book. The Council recommended that NMFS consider issuing the following EFPs.

Community Based Fishing Association EFP

The Nature Conservancy (TNC) submitted a proposal for a 2009 EFP, along with their collaborators: City of Morro Bay Harbor Department; Port San Luis Commercial Fishermen's Association; Port San Luis Harbor District; California Department of Fish and Game; Morro Bay Commercial Fishermen's Organization, Inc.; and Environmental Defense. The primary purpose of the EFP is to test whether establishing a cooperatively managed, community based fishing association can provide economic and environmental performance benefits.

Recreational Chilipepper EFP

The California Recreational Fishing Alliance (RFA) and the Golden Gate Fishermen's Association submitted an application for a 2009 EFP. The primary purpose of the EFP is to do an area-based recreational fishing study to test if hook and line fishing gear can be used to access underutilized chilipepper rockfish seaward of the non-trawl RCA, while keeping bycatch of overfished species low.

Recreational Yellowtail EFP

The Oregon RFA submitted an application for a 2009 EFP. The primary purpose of the EFP is to test if recreational fishing gear, fitted with a long leader to keep gear up off the ocean floor, can be used to access underutilized yellowtail rockfish, while keeping bycatch of overfished species low.

Commercial Chilipepper EFP

Steven Fosmark submitted an application for a 2009 EFP. The primary purpose of the EFP is to test if a specific longline gear configuration can be used in the commercial fishery to target underutilized chilipepper rockfish, while keeping bycatch of overfished species low.

Authority: 16 U.S.C. 1801 et seq.

Dated: March 23, 2009.
Alan D. Risenhoover,
Director, Office of Sustainable Fisheries, National Marine Fisheries Service.

[FR Doc. E9-6895 Filed 3-26-09; 8:45 am]

BILLING CODE 3510-22-S